DEPARTMENT OF COMMERCE

United States Patent and Trademark Office

Fastener Quality Act Insignia Recordal Process

ACTION: Proposed extension of an existing information collection; comment request.

SUMMARY: The United States Patent and Trademark Office (USPTO), as required by the Paperwork Reduction Act of 1995, invites comments on a proposed extension of an existing information collection: 0651-0028 (Fastener Quality Act Insignia Recordal Act).

DATES: Written comments must be submitted on or before March 12, 2018.

ADDRESSES: You may submit comments by any of the following methods:

• Email: InformationCollection@upsto.gov. Include “0651-0028 comment” in the subject line of the message.

• Federal Rulemaking Portal: http://www.regulations.gov.

• Mail: Marcie Lovett, Records and Information Governance Division Director, Office of the Chief Technology Officer, United States Patent and Trademark Office, P.O. Box 1450, Alexandria, VA 22313-1450.

FOR FURTHER INFORMATION CONTACT: Requests for additional information should be directed to Catherine Cain, Attorney Advisor, Office of the Commissioner for Trademarks, United States Patent and Trademark Office, P.O. Box 1450, Alexandria, VA 22313-1450; by telephone at 571-272-8946; or by email to Catherine.Cain@uspto.gov with “0651-0028 comment” in the subject line. Additional information about this collection is also available at http://www.reginfor.gov under “Information Collection Review.”

SUPPLEMENTARY INFORMATION:

I. Abstract

Under Section 5 of the Fastener Quality Act (FQA) of 1999, 15 U.S.C. 5401 et seq., certain industrial fasteners must bear an insignia identifying the manufacturer. It is also mandatory for manufacturers of fasteners covered by the FQA to submit an application to the USPTO for recordal of the insignia on the Fastener Insignia Register.

The procedures for the recordal of fastener insignia under the FQA are set forth in 15 CFR 280.300 et seq. The purpose of requiring both the insignia and the recordation is to ensure that certain fasteners can be traced to their manufacturers and to protect against the sale of mismarked, misrepresented, or counterfeit fasteners.

The insignia may be sourced from an existing trademark registered at USPTO, from a trademark that is proposed in an application to obtain a registration currently before the USPTO, or from a unique alphanumeric designation issued upon request from the USPTO. After a manufacturer submits a complete application for recordal, the USPTO issues a Certificate of Recordal. These certificates remain active for five years. Applications to renew the certificates must be filed within six months of the expiration date or, upon payment of an additional surcharge, within six months following the expiration date.

If a recorded alphanumeric designation is assigned by the manufacturer to a new owner, the designation becomes “inactive” and the new owner must submit an application to reactivate the designation within six months of the date of assignment. If the recordal is based on a trademark application or registration and the registration is assigned to a new owner, the recordal becomes “inactive” and cannot be reassigned. Instead, the new owner of the trademark application or registration must apply for a new recordal. Manufacturers who record insignia must notify the USPTO of any changes of address.

This information collection includes one form, the Application for Recordal of Insignia or Renewal/Reactivation of Recordal Under the Fastener Quality Act (PTO-1611), which provides manufacturers with a convenient way to submit a request for the recordal of a fastener insignia or to renew or reactivate an existing Certificate of Renewal.

The public uses this information collection to comply with the insignia recordal provisions of the FQA. The USPTO uses the information in this collection to record or renew insignias under the FQA and to maintain the Fastener Insignia Register, which is open for public inspection and is updated quarterly. The public may download the Fastener Insignia Register from the USPTO website.

III. Method of Collection

By mail, facsimile, hand delivery, or electronic submission to the USPTO.

III. Data

OMB Number: 0651-0028.

IC Instruments and Forms: PTO-1611.

Type of Review: Revision of a Previously Existing Information Collection.

Affected Public: Businesses or other for-profits.

Estimated Number of Respondents: 96 responses per year.

Estimated Time per Response: The USPTO estimates that it will take the public approximately 20 minutes (0.33 hours) to gather the necessary information, prepare the form, and submit the request for recordal or renewal of a fastener insignia to the USPTO.

Estimated Total Annual Respondent Burden Hours: 32 hours.

Estimated Total Annual Respondent (Hourly) Cost Burden: $4,640.00. The USPTO estimates that a paraprofessional will complete these applications. The professional hourly rate for a paraprofessional is $145. The rate is established by estimates in the 2016 Report on the Economic Survey, published by the Committee on Economics of Legal Practice of the American Intellectual Property Law Association.

IC No. | Item | Estimated time for responses (hours) | Estimated annual responses | Estimated annual burden cost | Rate | Estimated annual hourly cost ($)
|  | (a) | (b) | (c) (a) × (b) | (d) | (e) (c) × (d)
1 | Applications for Recordal of Insignia or Renewal/Reactivation of Recordal Under the Fastener Quality Act | 0.33 | 96 | 32 | $145.00 | $4,640.00
Totals |  |  | 96 | 32 |  | 4,640.00

Estimate Total Annual Non-hour Respondent Cost Burden: $2,121.96. There are no capital start-up, recordkeeping, or maintenance costs associated with this information collection. However, this collection does have annual (non-hour) costs in the form of filing fees and postage costs.

Customers may incur postage costs when submitting some of the items covered by this collection to the USPTO by mail. The USPTO expects that approximately 98% of the response in this collection will be submitted electronically. Of the remaining 2%, will be submitted by mail for a total of 2 mailed submissions. The average cost for a first-class, 1-ounce large envelope is $0.98. Therefore, the USPTO estimates that the postage costs for the mailed submissions in this collection will total $1.96.

There are two filing fees associated with this collection, which total $2,120.00. These fees are detailed in the table below.

IC No. | Items | Responses | Filing fee | Filing fee costs
1a | Filing an application for recordal of insignia or renewal/reactivation of recordal | 96 | $20.00 | $1,920.00
1b | Surcharge for filing six months after the expiration date—Filing an application for recordal of insignia or renewal/reactivation of recordal | 10 | 20.00 | 200.00
Totals |  | 106 |  | 2,120.00

Therefore, the USPTO estimates that the total annual (non-hour) cost burden for this collection in the form of filing fees ($2,120.00) and postage costs ($1.96) is $2,121.96 per year.

IV. Request for Comments

Comments submitted in response to this notice will be summarized or included in the request for OMB approval of this information collection. They also will become a matter of public record.

Comments are invited on:

(a) Whether the proposed collection of information is necessary for the proper performance of the functions of the agency, including whether the information shall have practical utility;

(b) The accuracy of the agency's estimate of the burden (including hours and cost) of the proposed collection of information;

(c) Ways to enhance the quality, utility, and clarity of the information to be collected; and

(d) Ways to minimize the burden of the collection of information on respondents, e.g., the use of automated collection techniques or other forms of information technology.

Marcie Lovett,
Records and Information Governance Division Director, OCTO, United States Patent and Trademark Office.

[FR Doc. 2018-00264 Filed 1-9-18; 8:45 am]

BILLING CODE 3510-16-P